DEPARTMENT OF HEALTH AND HUMAN SERVICES

Centers for Disease Control and Prevention

Advisory Committee for Injury Prevention and Control (ACIPC): Teleconference

In accordance with Section 10(a)(2) of the Federal Advisory Committee Act (Pub. L. 92-463), the Centers for Disease Control and Prevention (CDC) announces the following subcommittee meeting.

Name: Science and Program Review Subcommittee to ACIPC.

Time and Date: 1 p.m.-3 p.m., November 2, 2005.

Place: The teleconference call will originate at the Centers for Disease Control and Prevention in Atlanta, Georgia. Please see Supplementary Information for details on accessing the teleconference.

Status: Open to the public, teleconference access limited only by availability of 50 telephone ports.

Purpose: The Subcommittee provides advice on the needs, structure, progress, and performance of the National Center for Injury Prevention and Control (NCIPC) programs. The Subcommittee provides second-level scientific and programmatic review for applications for research grants, cooperative agreements, and training grants related to injury control and violence prevention, and recommends approval of projects that merit further consideration for funding support. The Subcommittee also advises on priorities for research to be supported by contracts, grants, and cooperative agreements and provides concept review of program proposals and announcements.

Matters to be Discussed: The subcommittee will meet to review, discuss, and evaluate program review documents.

Agenda items are subject to change as priorities dictate.

SUPPLEMENTARY INFORMATION: This conference call is scheduled to begin at 1 p.m. Eastern Standard Time. To participates in the teleconference, please dial 1-877-951-7375, Pass Code 603636. You will then be automatically connected to the call.

FOR FURTHER INFORMATION CONTACT: Ms. Louise Galaska, Executive Secretary, ACIPC, NCIPC, CDC, 4770 Buford Highway, NE., M/S K02, Atlanta, Georgia 30341-3724, telephone 770/488-4694.

The Director, Management Analysis and Services Office, has been delegated the authority to sign Federal Register notices pertaining to announcements of meetings and other committee management activities, for both CDC and the Agency for Toxic Substances and Disease Registry.

Dated: October 12, 2005.
Alvin Hall,
Director, Management Analysis and Services Office, Centers for Disease Control and Prevention.

[FR Doc. 05-20685 Filed 10-14-05; 8:45 am]

BILLING CODE 4163-18-P